NATIONAL SCIENCE FOUNDATION

Notice of Permit Applications Received Under the Antarctic Conservation Act of 1978

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by January 25, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

APPLICATION DETAILS:

1. Applicant: Permit Application: 2016-023, Sarah Eppley, Portland State University, Department of Biology, P.O. Box 751, Portland, OR 97207.

Activity for Which Permit is Requested: Sample collection, ASPA entry, and Import into the USA. Mosses are known ecosystem engineers in the Arctic tundra, while little is known about Antarctic mosses in organizing communities or shaping ecosystem processes, and how individual moss types influence Antarctic ecology. The applicants propose to collect moss and soil samples from ASPAs to investigate how warming will affect Antarctic moss terrestrial ecosystems. Moss and soil samples, up to 3 cm deep, will be collected using a metal 2 cubic centimeter coring device. Up to 180 samples total from each of 6 different moss species, up to 30 samples total from two other moss species, up to 30 samples of additional moss species, and up to 400 total soil samples will be collected. These samples will be imported back to the home university.

Location: ASPA 125, Fildes Peninsula, King George Island, including Zone 125c, Glacier Dome Belligshausen (Collins Glacier); ASPA 150, Ardley Island, Maxwell Bay, Antarctic Peninsula.

Dates: February 10 to June 30, 2016.

Nadene G. Kennedy,
Polar Coordination Specialist, Division of Polar Programs.

[FR Doc. 2015-32439 Filed 12-23-15; 8:45 am]

BILLING CODE 7555-01-P